DEPARTMENT OF LABOR

Office of the Secretary

Submission for OMB Review; Comment Request

August 30, 2002.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained by calling the Department of Labor. To obtain documentation contract Darrin King on 202-693-4129 or e-Mail: King-Darrin@dol.gov.

Comments should be sent to Office of Information and Regulatory Affairs, Atten: OMB Desk Officer for ETA, Office of Management and Budget, Room 10235, Washington, DC 20503 (202-395-7316), within 30 days from the date of the this publication in the Federal Register.

The OMB is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the collection of information on those who are to respond, including through the use of appropriate automated, electronic, medicinal, or other technological collection techniques or other forms of information technology, e.g., permitting electronic submission of responses.

Agency: Employment and Training Administration (ETA).

Type of Review: Extension of a currently approved collection.

title: Work Opportunity Tax Credit (WOTC) and Welfare-to-work (WtW) Tax Credit.

OMB: 1205-0371.

Affected Public: State, Local, or Tribal Government; Individuals or households; Business or other for -profit; and Federal government.

Type of Response: Reporting and Recordkeeping.

Frequency: On occasion; Quarterly; and Annually.

Number of Respondents: 700,052.

Requirement | total respondents | Frequency | Annual responses | Average response time (Hours) | Annual burden hours
Form 9057 | 52 | Quarterly | 208 | 4.00 | 832
Form 9058 | 52 | Quarterly | 208 | 4.00 | 832
Form 9059 | 52 | Quarterly | 208 | 4.00 | 832
Employer/Job Seeker Complete Form 9061 | 700.000 | On occasion | 700,000 | 0.33 | 231.000
States Process Form 9061 | 52 | On occasion | 700,000 | 4.00 | 2,800.000
Form 9062 | 52 | On occasion | 40 | 4.00 | 160
Form 9063 | 52 | On occasion | 400,000 | 0.33 | 132,000
Form 9065 | 52 | On occasion | 208 | 4.00 | 832
Record Keeping | 52 | Annually | 52 | 931.00 | 48,412
Planning Guidance | 52 | On time | 52 | 8.00 | 416
Planning Guidance—Modification | 52 | On occasion | 52 | 1.00 | 52
Total: |  |  | 1,801,028 |  | 3,215,368

Total Annualized Capital/Startup Costs: $0.

Total Annual costs (operating/maintaining systems or purchasing services): $0.

Description: the data collected on ETA Forms 9057-59, Addendum to ETA Form 9058, and ETA Forms 9061-63 and 9065 is authorized by the Revenue Act of 1978, TAx Equity and Fiscal Responsibility Act of 1982, Omnibus budget Reconciliation Act of 1992, sections 51 and 51A of the Internal Revenue Code of 1986, as amended, Small Business Act of 1996, Tax Payer relief Act of 1997, the Ticket to Work Incentive Improvement Act of 1999, and the Job Creation and Worker Assistance Act or 2002 (Pub. L. 107-147).

Data collected on the WOTC and the WtW Tax Credits is collected by the State Workforce Agencies (SWAs) and provided to the U.S. Employment Service. The data will be used, primarily, to supplement IRS Form 8850. This data will help expedite the processing of employer requests for Certifications generated through IRS Form 8850 or issuance of Conditional Certifications (CCs) and employer requests for Certifications as a result of hiring individuals who have received SWAs' or participating agencies' generated CCS. The data will also help streamline SWAs' mandated verification activities, aid and expedite the preparation of the quarterly reports, and provide a significant source of information for the Secretary's Annual Report to Congress on the WOTC program. The data recorded through the use of these forms will also help in the preparation of an annual report Congress. Also, the plans submitted by the states will tell the regional and national Offices how the states plan to administer the WOTC and the WtW tax credits and use the funds allocated to them. Finally, the data obtained through the use of the Technical Assistance and Review guide will help the Regional Coordinators determine if the states are administering the tax credit program in compliance with the reauthorizing legislation, the IRS Code of 1986, as amended, and the ETA Handbook No. 408.

Ira L. Mills,
Departmental Clearance Officer.

[FR Doc. 02-22696 Filed 9-05-02; 8:45 am]

BILLING CODE 4510-3330-M